INTERNATIONAL TRADE COMMISSION

[Investigation No. 337-TA-589]

In the Matter of: Certain Switches and Products Containing Same; Notice of Commission Determination of No Violation of Section 337; Termination of the Investigation

AGENCY: U.S. International Trade Commission.

ACTION: Notice.

SUMMARY: Notice is hereby given that the U.S. International Trade Commission has determined that there is no violation of 19 U.S.C. 1337 by respondents Belkin International, Inc., Belkin, Inc., and Emine Technology Co., Ltd. in the above-referenced investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on December 7, 2006, based on a complaint filed by ATEN International Co., Ltd. of Taipei, Taiwan, and ATEN Technology, Inc. of Irvine, California (collectively, “ATEN”). The complaint alleged violations of section 337 of the Tariff Act of 1930 (19 U.S.C. 1337) in the importation into the United States, the sale for importation, and the sale within the United States after importation of certain switches and products containing the same by reason of infringement of various claims of United States Patent No. 7,035,112. The complaint named six respondents: Belkin International, Inc., Belkin, Inc. (collectively, “Belkin”), Emine Technology Co., Ltd. (“Emine”), RATOC Systems, Inc., RATOC Systems International, Inc. (collectively, “RATOC”), and JustCom Tech, Inc. (“JustCom”). The Commission has terminated the investigation with respect to RATOC and JustCom based on settlement agreements, including a consent order.

On November 7, 2007, the ALJ issued his final initial determination (“ID”), and on November 21, 2007, he issued his recommended determination on remedy and bonding. In his ID, the ALJ found that Belkin's and Emine's accused products do not infringe asserted claims 1 and 12-21. In addition, the ALJ found that the claims are not invalid for anticipation or obviousness. The ALJ also found that the claims are not invalid for lack of written description support and that the patent is not unenforceable for inequitable conduct. Further, the ALJ found that there was no domestic industry based on the asserted patent. ATEN, Belkin, Emine, and the Commission investigative attorney each filed petitions for review of the ALJ's ID and responses to the petitions. The Commission determined to review a portion of the ALJ's ID and requested briefing from the parties on the issues under review and on remedy, the public interest, and bonding.

Having examined the record of this investigation, including the ALJ's final ID, the written submissions on review, and the responses thereto, the Commission has determined (1) to modify the ALJ's claim construction of the term “body;” (2) to adopt the ALJ's claim construction of the terms “fixedly attached” and “integrated into;” (3) to determine that Belkin's and Emine's products do not infringe the asserted claims under the adopted claim construction; and (4) to determine that, alternatively, if a broad claim construction were adopted for the term “body,” the claims would be invalid for anticipation or obviousness in light of the asserted prior art.

The authority for the Commission's determination is contained in section 337 of the Tariff Act of 1930, as amended (19 U.S.C. 1337), and in section 210.45 of the Commission's Rules of Practice and Procedure (19 CFR 210.45).

Issued: February 8, 2008.
By order of the Commission.
Marilyn R. Abbott,
Secretary to the Commission.

[FR Doc. E8-2716 Filed 2-13-08; 8:45 am]

BILLING CODE 7020-02-P